DEPARTMENT OF HEALTH AND HUMAN SERVICES

National Institutes of Health

Center for Scientific Review; Amended Notice of Meeting

Notice is hereby given of a change in the meeting of the Neuroscience and Ophthalmic Imaging Technologies Study Section, October 02, 2013, 08:00 a.m. to October 03, 2013, 12:00 p.m., Doubletree Hotel Washington DC, 1515 Rhode Island Avenue NW., Washington, DC 20005, which was published in the Federal Register on September 03, 2013, 78 FR 54260.

The meeting will start on November 20, 2013 at 08:00 a.m. and end on November 21, 2013 at 02:00 p.m. The meeting location remains the same. The meeting is closed to the public.

Dated: October 29, 2013.
Melanie J. Gray,
Program Analyst, Office of Federal Advisory Committee Policy.

[FR Doc. 2013-26223 Filed 11-1-13; 8:45 am]

BILLING CODE 4140-01-P